DEPARTMENT OF COMMERCE

International Trade Administration

[C-570-039]

Certain Amorphous Silica Fabric From the People's Republic of China: Postponement of Preliminary Determination in the Countervailing Duty Investigation

AGENCY: Enforcement and Compliance, International Trade Administration, Department of Commerce

DATES: Effective Date: March 15, 2016.

FOR FURTHER INFORMATION CONTACT: Yasmin Bordas at (202) 482-3813, John Corrigan at (202) 482-7438, or Emily Maloof at (202) 482-5649, AD/CVD Operations, Enforcement and Compliance, International Trade Administration, Department of Commerce, 14th Street and Constitution Avenue NW., Washington, DC 20230.

SUPPLEMENTARY INFORMATION:

Background

On February 16, 2016, the Department of Commerce (the Department) initiated a countervailing duty investigation on certain amorphous silica fabric from the People's Republic of China.¹ Currently, the preliminary determination is due no later than April 21, 2016.

¹ See Certain Amorphous Silica Fabric from the People's Republic of China: Initiation of Countervailing Duty Investigation, 81 FR 8909 (February 23, 2016).

Postponement of the Preliminary Determinations

Section 703(b)(1) of the Tariff Act of 1930, as amended (the Act), requires the Department to issue the preliminary determination in a countervailing duty investigation within 65 days after the date on which the Department initiated the investigation. However, if the petitioner makes a timely request for an extension in accordance with 19 CFR 351.205(e), section 703(c)(1)(A) of the Act allows the Department to postpone the preliminary determination until no later than 130 days after the date on which the Department initiated the investigation.

On March 8, 2016, Petitioner ² submitted a timely request pursuant to section 703(c)(1)(A) of the Act and 19 CFR 351.205(e) to postpone the preliminary determination.³ In its request, Petitioner states: “Due to the number and nature of subsidy programs under investigation, and due to the fact that the Department has sent quantity and value questionnaires to select mandatory respondents, Petitioner believes that the normal 65-day deadline for a preliminary determination in a countervailing duty investigation would not provide sufficient time for the Department to examine adequately the amount of subsidies that producers and exporters of subject merchandise in China receive.” ⁴

² Auburn Manufacturing, Inc.

³ See Letter from Petitioner, “Certain Amorphous Silica Fabric from the People's Republic of China: Petitioner's Request to Extend the Deadline for the Preliminary Determination,” dated March 8, 2016.

⁴ Id., at 1.

For the reasons stated above and because there are no compelling reasons to deny the request, the Department, in accordance with section 703(c)(1)(A) of the Act, is postponing the deadline for the preliminary determination to no later than 130 days after the day on which the investigation was initiated. As a result, the Department will issue its preliminary determination no later than June 27, 2016.⁵ In accordance with section 735(a)(1) of the Act, the deadline for the final determination of this investigation will continue to be 75 days after the date of the preliminary determination, unless postponed at a later date.

⁵ The deadline based on a 65-day extension would be June 25, 2016, which is a Saturday. Department practice dictates that where a deadline falls on a weekend or federal holiday, the appropriate deadline is the next business day. See Notice of Clarification: Application of “Next Business Day” Rule for Administrative Determination Deadlines Pursuant to the Tariff Act of 1930, As Amended, 70 FR 24533 (May 10, 2005).

This notice is issued and published pursuant to section 703(c)(2) of the Act and 19 CFR 351.205(f)(1).

Dated: March 9, 2016.
Paul Piquado,
Assistant Secretary for Enforcement and Compliance.

[FR Doc. 2016-05810 Filed 3-14-16; 8:45 am]

BILLING CODE 3510-DS-P